DEPARTMENT OF STATE

[Public Notice: 11030]

Defense Trade Advisory Group; Notice of Membership

The U.S. Department of State's Bureau of Political-Military Affairs is accepting membership applications for the Defense Trade Advisory Group (DTAG). The Bureau of Political-Military Affairs is interested in applications from subject matter experts from the United States defense industry, relevant trade and labor associations, or academic and foundation personnel.

The DTAG was established as an advisory committee under the authority of 22 U.S.C. 2656 and the Federal Advisory Committee Act, 5 U.S.C. App. (“FACA”). The purpose of the DTAG is to provide the Bureau of Political-Military Affairs with a formal channel for regular consultation and coordination with U.S. private sector defense exporters and defense trade organizations on issues involving U.S. laws, policies, and regulations for munitions exports. The DTAG advises the Bureau on its support for and regulation of defense trade to help ensure that impediments to legitimate exports are reduced while the foreign policy and national security interests of the United States continue to be protected and advanced in accordance with the Arms Export Control Act (AECA), as amended. Major topics addressed by the DTAG include (a) policy issues on commercial defense trade and technology transfer; (b) regulatory and licensing procedures applicable to defense articles, services, and technical data; (c) technical issues involving the U.S. Munitions List (USML); and (d) questions related to the implementation of the AECA and International Traffic in Arms Regulations (ITAR).

Members are appointed by the Assistant Secretary of State for Political-Military Affairs on the basis of individual qualifications and technical expertise. Past members include representatives of United States defense industry, relevant trade and labor associations, or academic and foundation personnel. In accordance with the DTAG Charter, all DTAG members must be U.S. citizens. DTAG members are expected to represent the views of their organizations, while also demonstrating awareness of Department's mission of ensuring that commercial exports of defense articles and defense services advance U.S. national security and foreign policy objectives. In addition, DTAG members are expected to understand complex issues related to commercial defense trade and industrial competitiveness and are expected to advise the Bureau on these matters.

DTAG members' responsibilities include:

• Serving a consecutive two-year term, which may be renewed or terminated at the discretion of the Assistant Secretary of State for Political-Military Affairs.

• Making recommendations in accordance with the DTAG Charter and the FACA.

• Making policy and technical recommendations within the scope of the U.S. commercial export control regime as set forth in the AECA, the ITAR, and appropriate directives.

Please note that DTAG members may not be reimbursed for travel, per diem, and other expenses incurred in connection with their duties as DTAG members. How to apply: Applications in response to this notice must contain the following information: (1) Name of applicant; (2) affirmation of U.S. citizenship; (3) organizational affiliation and title, as appropriate; (4) mailing address; (5) work telephone number; (6) email address; (7) resume; and (8) summary of qualifications for DTAG membership.

This information may be provided via two methods:

• Emailed to the following address: DTAG@State.Gov. In the subject field, please write, “DTAG Membership Application.”

• Send in hardcopy to the following address: Barbara Eisenbeiss, PM/DDTC, SA-1, 12th Floor, Directorate of Defense Trade Controls, Bureau of Political Military Affairs, U.S. Department of State, Washington, DC 20522-0112. If sent via regular mail, we recommend you call Ms. Eisenbeiss (202-663-2835) to confirm she has received your package.

All applications must be postmarked by March 2, 2020.

Neal F. Kringel,
Alternate Designated Federal Officer, Defense Trade Advisory Group, Department of State.

[FR Doc. 2020-02797 Filed 2-14-20; 8:45 am]

BILLING CODE 4710-25-P